DEPARTMENT OF THE INTERIOR

National Park Service

[NPS-WASO-NAGPRA-NPS0038565; PPWOCRADN0-PCU00RP14.R50000]

Notice of Inventory Completion: U.S. Department of the Interior, Bureau of Indian Affairs, Washington, DC, and the University of Tennessee, Knoxville, Department of Anthropology, Knoxville, TN

AGENCY: National Park Service, Interior.

ACTION: Notice.

SUMMARY: In accordance with the Native American Graves Protection and Repatriation Act (NAGPRA), the U.S. Department of the Interior, Bureau of Indian Affairs (BIA), and the University of Tennessee, Knoxville, Department of Anthropology (UTK), have completed an inventory of human remains and associated funerary objects and have determined that there is a cultural affiliation between the human remains and associated funerary objects and Indian Tribes or Native Hawaiian organizations in this notice.

DATES: Repatriation of the human remains and associated funerary objects in this notice may occur on or after September 23, 2024.

ADDRESSES: Tamara Billie, U.S. Department of the Interior, Bureau of Indian Affairs, 1001 Indian School Road NW, Mailbox 44, Albuquerque, NM 87104, telephone (505) 879-9711, email tamara.billie@bia.gov.

SUPPLEMENTARY INFORMATION: This notice is published as part of the National Park Service's administrative responsibilities under NAGPRA. The determinations in this notice are the sole responsibility of the BIA, and additional information on the determinations in this notice, including the results of consultation, can be found in its inventory or related records. The National Park Service is not responsible for the determinations in this notice.

Abstract of Information Available

Human remains representing, at least, four individuals have been reasonably identified. The 10 associated funerary objects are three lots of lithics, four lots of ceramics, and three lots of faunal remains.

These remains and objects were removed from 25RH1, the Leary site, in Richardson County, Nebraska. There have been numerous excavations of this site, but these remains and objects were likely removed in 1968, under the direction of Alfred E. Johnson of the University of Kansas (KU). Bulldozer cutting along the terrace of the Nemaha River exposed burials which were “salvaged” by Johnson in 1968. Based on the information available, it is highly likely that William Bass brought these remains and two of the funerary objects (one lot of ceramics and one lot of faunal remains) from KU to UTK when he began working in the Department of Anthropology in 1971. However, some of the associated funerary objects remained at KU, including three lots of lithics, three lots of ceramics, and two lots of faunal remains. Some of the human remains appear to have been treated with an unknown preservative and some have glue present.

25RH1 has been documented as an Oneota culture site. This is supported by anthropological, archeological, linguistic, oral tradition, and other relevant information or expert opinion, including Native American traditional knowledge. The Iowa Tribe of Kansas and Nebraska is among the present-day representatives of the Oneota culture. This site is also located on the Iowa Tribe of Kansas and Nebraska's reservation.

Cultural Affiliation

Based on the information available and the results of consultation, cultural affiliation is clearly identified by the information available about the human remains and associated funerary objects described in this notice.

Determinations

BIA has determined that:

• The human remains described in this notice represent the physical remains of four individuals of Native American ancestry.

• The 10 objects described in this notice are reasonably believed to have been placed intentionally with or near individual human remains at the time of death or later as part of the death rite or ceremony.

• There is a connection between the human remains and associated funerary objects described in this notice and the Iowa Tribe of Kansas and Nebraska.

Requests for Repatriation

Written requests for repatriation of the human remains and associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the human remains and associated funerary objects in this notice to a requestor may occur on or after September 23, 2024. If competing requests for repatriation are received, the BIA must determine the most appropriate requestor prior to repatriation. Requests for joint repatriation of the human remains and associated funerary objects are considered a single request and not competing requests. The BIA is responsible for sending a copy of this notice to the Indian Tribes and Native Hawaiian organizations identified in this notice.

Authority: Native American Graves Protection and Repatriation Act, 25 U.S.C. 3003, and the implementing regulations, 43 CFR 10.10.

Dated: August 15, 2024.
Mariah Soriano,
Acting Manager, National NAGPRA Program.

[FR Doc. 2024-18950 Filed 8-22-24; 8:45 am]

BILLING CODE 4312-52-P